DEPARTMENT OF TRANSPORTATION

Federal Aviation Administration

[FAA Docket number: FAA-2024-2362]

NextGen Advisory Committee; Notice of Public Meeting

AGENCY: Federal Aviation Administration (FAA), Department of Transportation.

ACTION: Notice of public meeting.

SUMMARY: This notice announces a meeting of the NextGen Advisory Committee (NAC).

DATES: The meeting will be held on December 10, 2024, from 9 a.m.-12 p.m. ET. Requests to attend the meeting virtually must be received by December 3, 2024. Requests for accommodations for a disability must be received by December 3, 2024. Written materials requested to be reviewed by NAC Members before the meeting must be received no later than December 3, 2024.

ADDRESSES: The meeting will be held at the Federal Aviation Administration, 800 Independence Avenue SW, Washington, DC 20591, with a virtual option. Virtual meeting information will be provided on the NAC internet website at least one week in advance of the meeting. Information on the NAC, including copies of previous meeting minutes, is available on the NAC internet website at https://www.faa.gov/about/office_org/headquarters_offices/ang/nac/. Members of the public who wish to observe the meeting virtually or in person must send the required information listed in the SUPPLEMENTARY INFORMATION section to 9-AWA-ANG-NACRegistration@faa.gov.

FOR FURTHER INFORMATION CONTACT: Michele Murner, NAC Coordinator, U.S. Department of Transportation, at michele.murner@faa.gov or 202-510-8570. Any requests or questions not regarding attendance registration should be sent to the person listed in this section.

SUPPLEMENTARY INFORMATION:

I. Background

The Secretary of Transportation established the NAC under agency authority in accordance with the provisions of the Federal Advisory Committee Act, as amended, Public Law 92-463, 5 U.S.C. ch. 10, to provide independent advice and recommendations to the FAA and to respond to specific taskings received directly from the FAA. The NAC recommends consensus-driven advice for FAA consideration relating to Air Traffic Management System modernization.

II. Agenda

At the meeting, the agenda will cover the following topics:

• NAC Chair's Report

• FAA Report

• NAC Subcommittee Chair's Report

○ Risk and Mitigations update for the following focus areas: Data Communications, Performance Based Navigation, Surface and Data Sharing, and Northeast Corridor

○ Final Report on NAC Tasking 23-2: National Airspace System (NAS) Airspace Efficiencies

○ Final Report on NAC Tasking 23-3: En Route Data Communication: Joint Analysis Team Assessment

• NAC Chair Closing Comments

The detailed agenda will be posted on the NAC internet website at least one week in advance of the meeting.

III. Public Participation

The meeting is open to the public. Members of the public who wish to attend are asked to register via email by submitting their full legal name, country of citizenship, contact information (telephone number and email address), name of their industry association or applicable affiliation, and if they would like to attend the meeting in person or virtually. Please email this information to the email address listed in the ADDRESSES section. When registration is confirmed, registrants who requested to attend virtually will be provided the virtual meeting information/teleconference call-in number and passcode. Callers are responsible for paying associated long-distance charges (if any).

Note: Only NAC Members, NAC working group members, and FAA staff who are providing briefings will have the ability to speak. All other attendees will only be able to listen.

The U.S. Department of Transportation is committed to providing equal access to this meeting for all participants. If you need alternative formats or services because of a disability, please contact the person listed in the FOR FURTHER INFORMATION CONTACT section.

Any member of the public may present a written statement to the committee at any time. Written statements submitted by the deadline will be provided to the NAC members before the meeting. Written statements must be submitted to the person listed under the heading FOR FURTHER INFORMATION CONTACT. Comments received after the due date listed in the DATES section will be distributed to the members but may not be reviewed prior to the meeting.

Signed in Washington, DC
Kimberly Noonan,
Manager, Office of Stakeholder Collaboration, Management Services Office, ANG-A, Office of the Assistant Administrator for NextGen, Federal Aviation Administration.

[FR Doc. 2024-21243 Filed 9-17-24; 8:45 am]

BILLING CODE 4910-13-P